DEPARTMENT OF HEALTH AND HUMAN SERVICES

Food and Drug Administration

21 CFR Part 573

[Docket No. FDA-2014-F-0469]

Excentials B.V.; Withdrawal of Food Additive Petition (Animal Use)

AGENCY: Food and Drug Administration, HHS.

ACTION: Notification; withdrawal of petition for rulemaking.

SUMMARY: The Food and Drug Administration (FDA) is announcing the withdrawal, without prejudice to a future filing, of a food additive petition (animal use) proposing that the food additive regulations be amended to provide for the safe use of L-selenomethionine as a dietary source of selenium in feed for poultry, swine, and ruminants.

DATES: The food additive petition was withdrawn on November 10, 2017.

ADDRESSES: For access to the docket, go to https://www.regulations.gov and insert the docket number, found in brackets in the heading of this document, into the “Search” box and follow the prompts; and/or go to the Dockets Management Staff, 5630 Fishers Lane, Rm. 1061, Rockville, MD 20852.

FOR FURTHER INFORMATION CONTACT: Chelsea Trull, Center for Veterinary Medicine, HFV-224, Food and Drug Administration, 7519 Standish Pl., Rockville, MD 20855, 240-402-6729, chelsea.trull@fda.hhs.gov.

SUPPLEMENTARY INFORMATION: In a document published in the Federal Register on April 23, 2014 (79 FR 22602), FDA announced that a food additive petition (FAP 2278) had been filed by Excentials B.V., Vierlinghstraat 51, 4251 LC Werkendam, The Netherlands. The petition proposed to amend part 573 of title 21 of the Code of Federal Regulations (CFR), Food Additives Permitted in Feed and Drinking Water of Animals, to provide for the safe use of L-selenomethionine as a dietary source of selenium in feed for poultry, swine, and ruminants. Excentials B.V. has now withdrawn the petition without prejudice to a future filing in accordance with 21 CFR 571.7.

Dated: March 6, 2018.
Leslie Kux,
Associate Commissioner for Policy.

[FR Doc. 2018-04775 Filed 3-9-18; 8:45 am]

BILLING CODE 4164-01-P